DEPARTMENT OF JUSTICE

National Institute of Corrections

Solicitation for a Cooperative Agreement—State Jail Inspector: Training Curriculum Revision and Update

AGENCY: National Institute of Corrections, U.S. Department of Justice.

ACTION: Solicitation for a Cooperative Agreement.

SUMMARY: The National Institute of Corrections (NIC) Jails Division is seeking applications for the revision and update of its curriculum for State jail inspector training. The project will be for a 12-month period and will be completed in conjunction with the NIC Jails Division. The awardee will work closely with NIC staff on all aspects of the project. To be considered, applicants must demonstrate, at a minimum, (1) in-depth knowledge of the variety, scope, legal standing, and application of State jail inspections, (2) experience working with the nation's State jail inspectors, (3) experience in conducting jail inspections, and (4) expertise and experience in developing curriculums based on adult learning principles as reflected in the Instructional Theory into Practice (ITIP) model.

DATES: Applications must be received by 4 p.m. (EDT) on Monday, February 14, 2011.

ADDRESSES: Mailed applications must be sent to: Director, National Institute of Corrections, 320 First Street, NW., Room 5002, Washington, DC 20534. Applicants are encouraged to use Federal Express, UPS, or similar service to ensure delivery by the due date as postal mail is at times delayed due to security screening.

Applicants who wish to hand-deliver their applications should bring them to 500 First Street, NW., Washington, DC 20534, and dial 202-307-3106, ext. 0, at the front desk for pickup.

Faxed or e-mailed applications will not be accepted; however, electronic applications can be submitted via http://www.grants.gov.

For Further Information: A copy of this announcement and links to the required application forms can be downloaded from the NIC Web site at http://www.nicic.gov.

Questions and Answers: Questions about this project and the application procedures should be directed to Jim T. Barbee, Correctional Program Specialist, National Institute of Corrections. Questions must be e-mailed to Mr. Barbee at jbarbee@bop.gov. Mr. Barbee will respond by e-mail. Only questions received by 4 p.m. (EDT) on Thursday, February 10, 2011 will be answered. Answers to these questions will appear on NIC's Web site under the “Corrections Community” blog attached to this announcement.

SUPPLEMENTARY INFORMATION: Background: Of the nation's 50 States, 33 States have some form of minimum jail standards or inspections. The legal standing of State standards vary significantly among the States as does the rigor of the inspection process. The responsibility for jail standards and inspections differs from State to State, ranging from State agencies, to independent commissions, to nonprofit professional associations. However, the common factor among most State jail standard efforts is usually the minimal resources allocated for the function. In 2002, NIC developed a no-cost jail inspector training program in support of States' efforts to improve jail conditions and operations through standards and inspections. Improvement of the nation's jails is consistent with NIC's mission. Today, NIC would like to update the existing curriculum and associated training materials to reflect changes in the field. The existing NIC jail inspector training materials (e.g., ITIP-based curriculum, participant manuals, PowerPoint presentations, program evaluations, and other materials) to be revised/updated are available for review at http://www.nicic.gov under the “Corrections Community” blog attached to this announcement.

Scope of Work: The cooperative agreement awardee will create and conduct an online survey to obtain feedback from former trainees, draft a revised curriculum for the jail inspector training program, pilot the curriculum, and revise the curriculum based on an assessment of the pilot. The final curriculum will include a program description (overview), detailed narrative lesson plans, presentation slides for each lesson plan, a participant manual that follows the lesson plans, and a process and outcome evaluation (developed in concert with NIC's Research and Evaluation Division). The successful applicant will demonstrate an ability to maximize the use of multimedia resources, including blended learning technology and strategies, if required, to enhance the adult learning experience of jail inspectors. The curriculum will be designed according to the ITIP model for adult learners (refer to the ITIP toolkit located at http://nicic.gov/Library/018534). Lesson plans will be in a format that NIC provides.

A schedule of activities for this project should include, at a minimum, the following:

Meetings: The cooperative agreement awardee will attend up to five meetings. The initial meeting with the NIC project manager will focus on the project overview and preliminary planning. This will take place shortly after the cooperative agreement is awarded.

The awardee will also meet up to two times (these may be Web-based meetings) with NIC staff and up to five administrators of jail inspection agencies or subject matter experts (SMEs). The purpose of these meetings is to identify clearly the primary duties of State jail inspectors. Note that the SMEs will be selected by NIC, but all costs associated with their meeting attendance will be paid by the awardee.

The awardee will meet up to two times with NIC staff during the revision of the draft curriculum. One meeting will be devoted to drafting a framework for the curriculum, including module topics, performance objectives, estimated timeframes, sequencing, and potential instructional strategies. The other meeting will focus on lesson plan development, review, and revision and other project issues as they arise.

Development of Draft Curriculum: The cooperative agreement awardee will draft the full curriculum in consultation with NIC staff. The awardee will then send it to NIC staff and the selected SMEs for review.

NIC will choose the SMEs, but the awardee will reimburse them for time and expenses related to the review. The draft curriculum must be submitted sufficiently in advance of the pilot to ensure there is time to make any required changes.

Curriculum Pilot: The draft curriculum will be piloted to determine needed refinements. Although the length of the program will be determined by the content, the awardee should project that the program will last no more than 5 days. The curriculum may also incorporate blended learning strategies to accompany the in-class training.

The awardee, in conjunction with NIC, will identify up to 3 trainers for the program. The awardee will contract with and pay all costs associated with retaining the trainers, including travel, lodging, meals, fees, and miscellaneous expenses. NIC will secure training space at its academy in Colorado, select program participants, notify participants of selection and program details, supply training equipment, and provide for participant lodging, meals, and transportation. The awardee will provide final training materials in an appropriate timeframe and media format (e.g., doc, xls, avi, jpeg, mp3) as determined by NIC and in consultation with its writer/editor, webmaster, and audiovisual staff.

Curriculum Revision and Final Product: Based on the pilot and discussions with NIC staff, the awardee will revise the curriculum. The awardee will submit the revised curriculum to NIC staff for final review and make any remaining changes. The awardee will submit the completed curriculum to NIC in hard copy (1) and on disk in Word, PowerPoint, or other acceptable formats as designated by NIC. The awardee is responsible for securing all copyright releases in writing in addition to achieving 508 format compliance.

Document Preparation: For all awards in which a document will be a deliverable, the awardee must follow the Guidelines for Preparing and Submitting Manuscripts for Publication as found in the “General Guidelines for Cooperative Agreements,” which will be included in the award package.

Application Requirements: An application package must include OMB Standard Form 425, Application for Federal Assistance; a cover letter that identifies the audit agency responsible for the applicant's financial accounts as well as the audit period or fiscal year under which the applicant operates (e.g., July 1 through June 30); and an outline of projected costs with the budget and strategy narratives described in this announcement. The following additional forms must also be included: OMB Standard Form 424A, Budget Information—Non-Construction Programs; OMB Standard Form 424B, Assurances—Non-Construction Programs (both available at http://www.grants.gov); DOJ/FBOP/NIC Certification Regarding Lobbying, Debarment, Suspension and Other Responsibility Matters; and the Drug-Free Workplace Requirements (available at http://www.nicic.org/Downloads/PDF/certif-frm.pdf).

Applications should be concisely written, typed double spaced, and reference the NIC opportunity number and title referenced in this announcement. If you are hand delivering or submitting via Fed-Ex, please include an original and three copies of your full proposal (program and budget narrative, application forms, assurances and other descriptions). The original should have the applicant's signature in blue ink. Electronic submissions will be accepted only via http://www.grants.gov.

The narrative portion of the application should include, at a minimum: A brief paragraph indicating the applicant's understanding of the project's purpose; a brief paragraph that summarizes the project goals and objectives; a clear description of the methodology that will be used to complete the project and achieve its goals; a statement or chart of measurable project milestones and timelines for the completion of each milestone; a description of the qualifications of the applicant organization and a resume for the principal and each staff member assigned to the project (including instructors) that documents relevant knowledge, skills, and abilities to complete the project; and a budget that details all costs for the project, shows consideration for all contingencies for the project, notes a commitment to work within the proposed budget, and demonstrates the ability to reasonably provide deliverables according to schedule.

The narrative portion of the application should not exceed ten double-spaced typewritten pages, excluding attachments related to the credentials and relevant experience of staff.

In addition to the narrative and attachments, the applicant must submit one full sample curricula developed by the primary curriculum developer(s) named in the application. The sample curriculum must include lesson plans, presentation slides, and a participant manual.

Authority: Pub. L. 93-415.

Funds Available: NIC is seeking the applicant's best ideas regarding accomplishment of the scope of work and the related costs for achieving the goals of this solicitation. Funds may be used only for the activities that are linked to the desired outcome of the project. The funding amount should not exceed $73,000.

Eligibility of Applicants: An eligible applicant is any State or general unit of local government, private agency, educational institution, organization, individual, or team with expertise in the described areas. Applicants must have demonstrated ability to implement a project of this size and scope.

Review Considerations: Applications will be subject to the NIC Review Process. The criteria for the evaluation of each application will be as follows: Project Design and Management—30 points; Applicant Organization & Project Staff Background—30 points; Budget—20 points; Sample Curricula—20 points.

Note: NIC will not award a cooperative agreement to an applicant who does not have a Dun and Bradstreet Database Universal Number (DUNS) and is not registered in the Central Contractor Registry (CCR).

Applicants can obtain a DUNS number at no cost by calling the dedicated toll-free DUNS number request line at 800-333-0505. Applicants who are sole proprietors should dial 866-705-5711 and select option #1.

Applicants may register in the CCR online at the CCR Web site at http://www.ccr.gov. Applicants can also review a CCR handbook and worksheet at this Web site.

Number of Awards: One.

NIC Opportunity Number: 11JA01. This number should appear as a reference line in the cover letter, where the opportunity number is requested on Standard Form 424, and on the outside of the envelope in which the application is sent.

Catalog of Federal Domestic Assistance Number: 16.601.

Executive Order 12372: This project is not subject to the provisions of the executive order.

Thomas J. Beauclair,
Deputy Director, National Institute of Corrections.

[FR Doc. 2011-2322 Filed 2-2-11; 8:45 am]

BILLING CODE P